DEPARTMENT OF TRANSPORTATION

Federal Railroad Administration

Petition for Waivers of Compliance

In accordance with 49 CFR 211.9 and 211.41, notice is hereby given that the Federal Railroad Administration (FRA) has received a request for a waiver of compliance with certain requirements of the Federal safety laws and regulations. The petition is described below, including the party seeking relief, the regulatory provisions involved, the nature of the relief being requested, and the petitioner's arguments in favor of relief.

Southern Indiana Railway, Inc.

[Waiver Petition Docket Number FRA-2002-11669]

Southern Indiana Railway, Inc. of Sellersburg, Indiana seeks a permanent waiver of compliance from the requirements of 49 CFR part 223 (Safety Glazing Standards) for two diesel-electric locomotives, SIND 103 and SIND 104. The subjects of this petition are Model S-3 locomotives built by American Locomotive Company (Alco) in 1950.

These locomotives are used on five (5) miles of single track through mostly rural or lightly populated areas, interchanging with CSX and the Louisville and Indiana Railroad. Southern Indiana Railway reports that they have never had an employee injury due to broken locomotive glazing and have no history of previous glazing related accidents or injuries. They describe the current glazing as single pane safety plate glass in good condition.

Interested parties are invited to participate in these proceedings by submitting written reviews, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number, (e.g., Waiver Petition Docket Number FRA-2002-11669) and must be submitted to the DOT Docket Management Facility, Room PL-401 (Plaza Level), 400 Seventh Street, SW., Washington, D.C. 20590. Communications received within 45 days from the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Issued in Washington, DC, on March 19, 2002.
Grady C. Cothen, Jr.,
Deputy Associate Administrator for Safety Standards and Program Development.

[FR Doc. 02-7354 Filed 3-26-02; 8:45 am]

BILLING CODE 4910-06-P